DEPARTMENT OF ENERGY

Office of Energy Efficiency and Renewable Energy

Hydrogen Production and Delivery Research; Solicitation Number DE-PS36-03GO93007

AGENCY: Golden Field Office, Department of Energy (DOE).

ACTION: Notice of issuance of solicitation for financial assistance applications.

SUMMARY: The Office of Hydrogen, Fuel Cell, and Infrastructure Technologies of the Department of Energy (DOE) Office of Energy Efficiency and Renewable Energy is soliciting financial assistance Applications with the objective of supporting industry efforts and the President's Hydrogen Fuel Initiative for research in several specific hydrogen production and delivery technologies. DOE intends to provide financial support under provisions of the Hydrogen Future Act of 1996.

DATES: The Solicitation was issued on July 24, 2003 with a closing date for preliminary applications of September 4, 2003 and submittal of final applications on December 19, 2003.

ADDRESSES: To obtain a copy of the Solicitation, interested parties should access the DOE Industry Interactive Procurement System (IIPS) web site. The Solicitation can be obtained directly through IIPS at http://e-center.doe.gov by browsing opportunities by Program Office, Financial Assistance, Golden Field Office, and then selecting this Solicitation number. DOE will not issue paper copies of the Solicitation.

FOR FURTHER INFORMATION CONTACT: James Damm, Contracting Officer, via facsimile to (303) 275-4788 or electronically to h2production@go.doe.gov. Solicitation questions must be submitted through IIPS per the instructions contained in the Solicitation. Responses to questions will be posted on the IIPS web site. Further information on DOE's Hydrogen, Fuel Cells, and Infrastructure Technologies Program can be viewed at http://www.eere.energy.gov/hydrogenandfuelcells.

SUPPLEMENTARY INFORMATION: Under this Solicitation, DOE is soliciting Applications for research in several specific hydrogen production and delivery technologies. Through an Expression of Program Interest (EOPI) issued earlier in 2003, DOE requested input from interested parties regarding recommended research topics to be included in this Solicitation. EOPI submissions were used by DOE to develop portions of the Technical Topics for this Solicitation. The following ten Topics (some including Sub-Topics) are allowable areas for applications: Hydrogen From Biomass; Photolytic Processes; Distributed Production Technologies; Separation and Purification Technologies; Advanced Electrolysis Systems; Hydrogen Production Using High Temperature Thermochemical Water Splitting Cycles; Hydrogen Production Infrastructure Analysis; Hydrogen Delivery; Crosscutting Projects; and University Projects.

Awards under this Solicitation will be Cooperative Agreements with terms of two to four years beginning in fiscal year 2004. DOE anticipates selecting 28 Applications for negotiation of Award. Subject to the availability of annual congressional appropriations, the total cumulative DOE funding available under this Solicitation for all projects is anticipated to be up to $80 million over the four-year period. The minimum required cost share varies by type and stage of development of the technology and will be specified in the Solicitation.

Issued in Golden, Colorado, on July 25, 2003.
Jerry L. Zimmer,
Director, Office of Acquisition and Financial Assistance.

[FR Doc. 03-19708 Filed 8-4-03; 8:45 am]

BILLING CODE 6450-01-P